ENVIRONMENTAL PROTECTION AGENCY

40 CFR Part 63

[FRL-7379-2]

Approval of Section 112(l) Authority for Hazardous Air Pollutants; Delegation of Section 111 and Section 112 Standards; State of New Hampshire

AGENCY: Environmental Protection Agency (EPA).

ACTION: Proposed rule.

SUMMARY: EPA proposes to approve New Hampshire Department of Environmental Services' (NH DES) request for delegation of authority to implement and enforce its New Source Performance Standards (NSPSs) and National Emission Standards for Hazardous Air Pollutants (NESHAPs) that have been adopted by reference into New Hampshire's state regulations from the Federal requirements set forth in the Code of Federal Regulations. In addition, EPA proposes to approve NH DES's mechanism for receiving delegation of future NESHAPs and NSPSs. Approval of this action would delegate existing standards for both major and area sources and would automatically delegate future regulations and amendments to regulations once NH DES incorporates these regulations and amendments into its regulations. EPA is taking this action in accordance with the Clean Air Act (CAA).

In the final rules section of this Federal Register, EPA is approving NH DES's request as a direct final rule without prior proposal because the Agency views this as a noncontroversial action and anticipates no relevant adverse comments. A detailed rationale for the approval is set forth in the direct final rule. If no relevant adverse comments are received in response to this action, EPA will not take further action on this proposed rule. If the EPA receives relevant adverse comments, EPA will withdraw the direct final rule and it will not take effect. EPA will then address all public comments received in a subsequent final rule based on this proposed rule. The EPA will not institute a second comment period.

DATES: Written comments must be received on or before October 21, 2002.

ADDRESSES: Written comments should be mailed concurrently to the addresses below:

Steven Rapp, Chief, Air Permits, Toxics and Indoor Programs Unit (CAP), U.S. Environmental Protection Agency, Region I, One Congress Street, Suite1100, Boston, MA 02114-2023.

Barbara L. Hoffman, Stationary Source Planning Manager, New Hampshire Department of Environmental Services, Air Resources Division, 6 Hazen Drive, Concord, NH 03302-0095.

Copies of the requests for approval are available for public inspection at EPA's Region I Office, Air Permits, Toxics and Indoor Programs Unit during normal business hours.

FOR FURTHER INFORMATION CONTACT: Susan Lancey, Air Permits Unit, U.S. EPA Region I, One Congress St, Suite 1100 (CAP), Boston, MA 02114-2023, (617) 918-1656.

SUPPLEMENTARY INFORMATION: For additional information see the direct final action which is published in the Rules section of this Federal Register.

Dated: September 3, 2002.
Robert W. Varney,
Regional Administrator, EPA—New England.

[FR Doc. 02-23729 Filed 9-18-02; 8:45 am]

BILLING CODE 6560-50-P